DEPARTMENT OF EDUCATION

National Committee on Foreign Medical Education and Accreditation

AGENCY: U.S. Department of Education, Office of Postsecondary Education.

ACTION: Request for nominations to serve on the National Committee on Foreign Medical Education and Accreditation (NCFMEA).

SUMMARY: At this time, the Secretary of Education invites interested parties to submit nominations for individuals to serve on the National Committee on Foreign Medical Education and Accreditation (NCFMEA).

SUPPLEMENTARY INFORMATION: The NCFMEA is authorized by the Higher Education Act as amended (HEA) [20 U.S.C. 1002(a)(2)(B)]. The Committee shall consist of 11 members appointed by the Secretary of Education, one of whom shall be a student at the time of appointment, enrolled in an accredited medical school. Upon request from a foreign country, the NCFMEA evaluates the standards of accreditation applied to applicant foreign medical schools in that country and determines the comparability of these standards to standards for accreditation applied to medical schools in the United States. Medical schools located in foreign countries that lack an NCFMEA finding of comparability of their accrediting standards are not eligible to have their U.S. students receive Federal student aid funds under Title IV of the HEA.

Nomination Process: Any interested person or organization may nominate one or more qualified individuals for membership. If you would like to nominate an individual or yourself for appointment to the NCFMEA, please submit the following information to the U.S. Department of Education's White House Liaison Office:

• A copy of the nominee's résumé;

• A cover letter that provides your reason(s) for nominating the individual; and

• Contact information for the nominee (name, title, business address, business phone, fax number, and business e-mail address).

In addition, the cover letter must state that the nominee (if you are nominating someone other than yourself) has agreed to be nominated and is willing to serve on the Committee. Nominees should be respected in the educational community and representative of relevant constituencies, and will be appointed based on technical qualifications, professional experience, and a demonstrated broad knowledge of [foreign] medical school education and accreditation.

DATES: Nominations for the NCFMEA must be submitted (postmarked, if sending by mail; submitted electronically; or received, if hand delivered) by October 19, 2009.

ADDRESSES: You may submit nominations, including attachments, by any of the following methods:

• Electronically: Send to: WhiteHouseLiaison@ed.gov (specify in the e-mail subject line, “NCFMEA Nomination”).

• Mail, express delivery, hand delivery, messenger, or courier service: Submit one copy of the documents listed above to the following address: U.S. Department of Education, White House Liaison Office, 400 Maryland Avenue, SW., Room 7C109, Washington, DC 20202. Attn: Karen Akins.

For questions, contact Karen Akins, White House Liaison Office, at (202) 401-3677; fax (202) 205-0723, or via e-mail at WhiteHouseLiaison@ed.gov.

Dated: September 14, 2009.
Arne Duncan,
Secretary of Education.

[FR Doc. E9-22518 Filed 9-17-09; 8:45 am]

BILLING CODE 4000-01-P